DEPARTMENT OF THE INTERIOR

Office of the Secretary

43 CFR Part 2

RIN 1090-AA61

Amendment to the Freedom of Information Act Regulations

AGENCY: Office of the Secretary, Interior.

ACTION: Proposed rule.

SUMMARY: This proposed rule: Clarifies the time limit that requesters have for filing FOIA appeals; clarifies that requesters must include the required documentation with their appeals or their appeals may be rejected by the FOIA Appeals Officer; clarifies that requesters must file a FOIA request with each separate bureau/office from which they are seeking records; changes the language regarding requests for expedited processing to be consistent with the language used in the FOIA and deletes a paragraph in that section pertaining to “due process rights;” makes the use of multitrack processing mandatory for all bureaus and offices; advises requesters that they may contact the bureau/office's FOIA Requester Service Center and the FOIA Public Liaison concerning the status of their requests; and includes current contact information for DOI's FOIA and Public Affairs/Office of Communications Contacts and its reading rooms (Headquarters).

DATES: We will accept comments from all interested parties until December 24, 2007.

ADDRESSES: You may submit comments, identified by the number 1090-AA61, by any of the following methods:

—Federal rulemaking portal: http://www.regulations.gov [Follow the instructions for submitting comments]

—Mail or hand delivery: OCIO/DOI, 1849 C Street, NW., Room 5312-MIB, Washington, DC 20240

FOR FURTHER INFORMATION CONTACT: Alexandra Mallus by telephone at (202) 208-5342.

SUPPLEMENTARY INFORMATION: The Department of the Interior published a final rule in the Federal Register on October 21, 2002, revising its regulations implementing the FOIA, 43 CFR Part 2. In this publication, the language used in § 2.21(d) (6), “How will the bureau respond to my request?” and the language used in § 2.29, “How long do I have to file an appeal?” were inconsistent with each other concerning the timeframe for filing an appeal. This proposed rule clarifies the 2002 final rule by noting that appeals must be received by the FOIA Appeals Officer no later than 30 workdays from the date of the final response. Additionally, this proposed rule clarifies that a requester's failure to include all correspondence between himself/herself and the bureau concerning his/her FOIA request will result in the Department's rejection of the appeal unless the FOIA Appeals Officer determines that good cause exists to accept the defective appeal.

This proposed rule also changes § 2.22, “What happens if a bureau receives a request for records it does not have or did not create?” to eliminate paragraph (a)(1) of § 2.22, which has been construed by some courts to require bureaus that had received a FOIA request to refer the request to another bureau for a search of its records, regardless of whether the bureau that received the request had responsive records. The result of this change is that FOIA requesters must submit their requests in accordance with § 2.10, which requires that the FOIA requester specify which bureau's records are being sought or, at a minimum, specify that the FOIA requester is seeking the records of more than one bureau.

Consistent with EO 13392, this proposed rule adds a new paragraph (c) to § 2.12, “When can I expect the response?” advising requesters that they may contact the bureau/office's FOIA Requester Service Center and the FOIA Public Liaison concerning the status of their requests. Additionally, the language in sections 2.3 and 2.14 regarding expedited processing has been amended to reflect the statutory language. The term “exceptional need” has been replaced with “compelling need,” and paragraph (a)(3) in § 2.14 pertaining to “due process rights” has been removed.

This proposed rule also revises the language in § 2.26, “Does the bureau provide multitrack processing of FOIA requests?” to make the use of multitrack processing mandatory for all bureaus and offices within the Department and remind the bureaus of the statutory requirement of due diligence. Finally, Appendix A to Part 2, Department of the Interior FOIA and Public Affairs Contacts and Reading Rooms, has been updated to include current contact information for DOI's FOIA and Public Affairs/Office of Communications Contacts and its reading rooms (Headquarters) and to delete the FOIA contacts and reading rooms for the field offices. In the future, bureaus/offices will maintain information pertaining to the field offices on their FOIA Web sites to ensure that their contact information is accurate and current.

Public Comment Policy

Before including your address, phone number, e-mail address, or other personal identifying information in your comment, you should be aware that your entire comment—including your personal identifying information—may be made publicly available at any time. While you can ask us in your comment to withhold your personal identifying information from public review, we cannot guarantee that we will be able to do so.

Regulatory Planning and Review (E.O. 12866)

The Office of Management and Budget (OMB) has determined that this proposed rule is not a “significant regulatory action” under the terms of Executive Order 12866 and therefore is not subject to OMB review because it is not likely to result in a rule that may:

(1) Have an annual effect on the economy of $100 million or more or adversely affect in a material way the economy, a sector of the economy, productivity, competition, jobs, the environment, public health or safety, or State, local, or tribal governments, or communities;

(2) Create a serious inconsistency or otherwise interfere with an action taken or planned by another agency;

(3) Materially alter the budgetary impact of entitlements, grants, user fees, or loan programs or the rights or obligations of their recipients; or

(4) Raise novel legal or policy issues.

Regulatory Flexibility Act

DOI certifies that this regulation will not have a significant economic impact on a substantial number of small entities under the Regulatory Flexibility Act (5 U.S.C. 606(b)). Under the FOIA, agencies may recover only the direct costs of searching for, reviewing, and duplicating the records processed for requesters. Thus, fees assessed by DOI are nominal.

Small Business Regulatory Enforcement Fairness Act

This rule is not a major rule under 5 U.S.C. 804(2), the Small Business Regulatory Enforcement Fairness Act. This rule will not result in an annual effect on the economy of more than $100 million per year; a major increase in costs or prices for consumers, individual industries, Federal, State, or local government agencies, or geographic regions; or significant adverse effects on competition, employment, investment, productivity, innovation, or on the ability of U.S.-based companies to compete with foreign-based enterprises. It deals strictly with implementation of the FOIA within DOI.

Unfunded Mandates Reform Act

This rule does not impose an unfunded mandate on State, local, or tribal governments, or the private sector of more than $100 million per year. The rule does not have a significant or unique effect on State, local, or tribal governments, or the private sector. Therefore, no actions were deemed necessary under the provisions of the Unfunded Mandates Reform Act (2 U.S.C. 1531 et seq.)

Takings (E.O. 12630)

In accordance with Executive Order 12630, this rule does not have any takings implications. It deals strictly with implementation of the FOIA within DOI. Therefore, a takings assessment is not required.

Federalism (E.O. 13132)

In accordance with Executive Order 13132, this rule does not have Federalism implications as it deals strictly with implementation of the FOIA within DOI. Therefore, a Federalism assessment is not required.

Civil Justice Reform (E.O. 12988)

In accordance with Executive Order 12988, the Office of the Solicitor has determined that this rule does not unduly burden the judicial system and the requirements of sections 3(a) and 3(b)(2) of the Order.

Paperwork Reduction Act

This rule does not contain any information collection requirements for which OMB approval under the Paperwork Reduction Act (44 U.S.C. 3501-3520) is required.

National Environmental Policy Act

This rule does not constitute a major Federal action significantly affecting the quality of the human environment. A detailed statement under the National Environmental Policy Act (42 U.S.C. 4321-4347) of 1969 is not required.

Executive Order 13211

Executive Order 13211 requires agencies to prepare Statements of Energy Effects when undertaking certain actions. As this rule is not expected to significantly affect energy supplies, distribution, or use, this action is not a significant energy action and no Statement of Energy Effects is required.

Clarity of This Regulation

Executive Order 12866 requires each agency to write regulations that are easy to understand. We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to understand if it were divided into more (but shorter) sections? (A “section” appears in bold type and is preceded by the symbol “§” and a numbered heading; for example, “§ 2.7 What do I need to know before filing a FOIA request?”) (5) Is the description of the rule in the “Supplementary Information” section of the preamble helpful in understanding the proposed rule? What else could we do to make the rule easier to understand?

Send a copy of any comments that concern how we could make this rule easier to understand to: Office of Regulatory Affairs, Department of the Interior, 1849 C Street, NW., MS-7229-MIB, Washington, DC 20240.

List of Subjects in 43 CFR Part 2

Administrative practice and procedure, Classified information, Courts, Freedom of information, Government employees, Privacy.

Dated: October 5, 2007.
James E. Cason,
Associate Deputy Secretary.

For the reasons given in the preamble, we propose to amend part 2 of Title 43 of the Code of Federal Regulations, as set forth below:

PART 2—RECORDS AND TESTIMONY: FREEDOM OF INFORMATION ACT

1. The authority citation for part 2 continues to read as follows:

Authority: 5 U.S.C. 301, 552 and 552a; 31 U.S.C. 9701; and 43 U.S.C. 1460.

Subpart A—General Information

2. In § 2.3, revise paragraph (i) to read as follows:

§ 2.3 What terms do I need to know?

* * * * *

(i) Expedited processing means giving a FOIA request priority, and processing it ahead of other requests pending in the bureau because a requester has shown a compelling need for the records (see § 2.14).

* * * * *

Subpart C—Requests for Records Under the FOIA

3. In § 2.12, add a new paragraph (c) to read as follows:

§ 2.12 When can I get the response?

* * * * *

(c) Determining the status of your request. To determine the status of your request, you should call, fax, or email the point of contact provided in the bureau/office's acknowledgment letter to you, referencing the FOIA control number assigned to your request. You may also contact the appropriate FOIA Requester Service Center. If you are dissatisfied with the FOIA Requester Service Center's response, you may contact the bureau/office's FOIA Public Liaison to resolve the issue. (The relevant names and telephone numbers are listed at http://www.doi.gov/foia/liason.html).

4. In § 2.14, revise paragraph (a) to read as follows:

§ 2.14 When can I get expedited processing?

(a) A bureau will provide expedited processing when you request it if you demonstrate to the satisfaction of the bureau that there is a compelling need for the records. The following circumstances demonstrate a compelling need:

(1) Where failure to expedite the request could reasonably be expected to pose an imminent threat to the life or physical safety of an individual; or

(2) An urgency to inform the public about an actual or alleged Federal Government activity if the request is made by a person primarily engaged in disseminating information. In most situations, a person primarily engaged in disseminating information will be a representative of the news media. The requested information must be the type of information which has particular value that will be lost if not disseminated quickly, and ordinarily refers to a breaking news story of general public interest. Therefore, information of historical interest only, or information sought for litigation or commercial activities, would not qualify, nor would a news media deadline unrelated to breaking news.

* * * * *

5. In § 2.21, revise paragraph (d)(6) to read as follows:

§ 2.21 How will the bureau respond to my request?

* * * * *

(d) * * *

(6) A statement that the denial may be appealed to the FOIA Appeals Officer (see Appendix A to this Part), in accordance with the requirements in § 2.29.

* * * * *

6. In § 2.22, revise paragraph (a) to read as follows:

§ 2.22 What happens if a bureau receives a request for records it does not have or did not create?

(a) Consultations/referrals within DOI. If a bureau (other than the Office of Inspector General) receives a request for records in its possession that another bureau created or is substantially concerned with, it will consult with the other bureau before deciding whether to release or withhold the records. Alternatively, the bureau may refer the request, along with the records, to that bureau for direct response. The bureau that received the request will notify you of the referral in writing, along with the name of a contact in the other bureau(s) to which the referral was made. A referral does not restart the statutory time limit for responding to your request.

* * * * *

7. Revise § 2.26 to read as follows:

§ 2.26 Does the bureau provide multitrack processing of FOIA requests?

(a) All bureaus will use three processing tracks to distinguish between simple, normal, and complex requests based on the amount of time needed to process the request. FOIA requests will be placed in one of the following tracks:

(1) Simple: 1-5 workdays;

(2) Normal: 20 workdays; or

(2) Complex: over 20 workdays.

(b) Bureaus will exercise due diligence in processing requests in accordance with the requirements of the FOIA. Requesters should assume, unless notified by the bureau, that their request is in the “Normal” track.

(c) A bureau should, if possible, give requesters in its complex track the opportunity to limit the scope of their request in order to qualify for faster processing. A bureau doing so will contact the requester by telephone (which should be promptly followed up by a written communication) or in writing, whichever is more efficient in each case.

(d) See the Department's FOIA home page at http://www.doi.gov/foia/policy.html for details.

Subpart D—FOIA Appeals

8. Revise § 2.29 to read as follows:

§ 2.29 How long do I have to file an appeal?

(a) Appeals covered by § 2.28(a)(1), (2), (4) and (5). Your FOIA appeal must be received by the FOIA Appeals Officer no later than 30 workdays from the date of the bureau/office's letter responding to your request in full or in part.

(b) Appeals covered by § 2.28(a)(3). You may file an appeal any time after the time limit for responding to your request has passed.

(c) Appeals covered by § 2.28(a)(6). Your FOIA appeal must be received by the FOIA Appeals Officer no later than 30 workdays from the date of the letter denying the fee waiver.

(d) Appeals covered by 2.28(a)(7). You should file an appeal as soon as possible.

(e) Appeals arriving or delivered after 5 p.m. E.T., Monday through Friday, will be deemed received on the next workday.

9. In § 2.30, revise paragraph (b) to read as follows:

§ 2.30 How do I file an appeal?

* * * * *

(b) You must include with your appeal copies of all correspondence between you and the bureau concerning your FOIA request, including your request and the bureau's response (if there is one). Failure to include with your appeal all correspondence between you and the bureau will result in the Department's rejection of your appeal, unless the FOIA Appeals Officer determines, in the FOIA Appeal Officer's sole discretion, that good cause exists to accept the defective appeal. The time limits for responding to your appeal will not begin to run until the documents are received.

* * * * *

10. Appendix A to part 2 is revised to read as follows:

Appendix A to Part 2—Department of the Interior FOIA and Public Affairs Contacts, and Reading Rooms

Departmental

Departmental FOIA Officer, Senior FOIA Program Officer, MS-5312-MIB, 1849 C St., NW., Washington, DC 20240, Telephone No. (202) 208-5342, (202) 208-2588, Fax No. (202) 208-6867, (202) 208-6084

Departmental FOIA/Privacy Act, Appeals Officer, MS-6556-MIB, 1849 C St., NW., Washington, DC 20240, Telephone No. (202) 208-5339, Fax No. (202) 208-6677

Departmental Privacy Act Officer, MS-5312-MIB, 1849 C St., NW., Washington, DC 20240, Telephone No. (202) 219-0868, Fax No. (202) 208-6084

Public Affairs Office, Office of Communications, MS-6013, MIB, 1849 C St., NW., Washington, DC 20240, Telephone No. (202) 208-6416, Fax No. (202) 208-3231

Reading Room—DOI's Library, MIB (C Street Entrance), 1849 C St., NW., Washington, DC 20240, Telephone No. (202) 208-5815, Fax No. (202) 208-6773

Office of the Secretary

FOIA Officer, MS-116, SIB, 1951 Constitution Ave., NW., Washington, DC 20240, Telephone No. (202) 208-6045, Fax No. (202) 219-2374

Public Affairs Office, Office of Communications, MS-6013, MIB, 1849 C St., NW., Washington, DC 20240, Telephone No. (202) 208-6416, Fax No. (202) 208-3231

Reading Room—DOI's Library, MIB (C Street Entrance), 1849 C St., NW., Washington, DC 20240, Telephone No. (202) 208-5815, Fax No. (202) 208-6773

Office of Inspector General

FOIA Officer, MS-5341, MIB, 1849 C St., NW., Washington, DC 20240, Telephone No. (703) 487-5436, Fax No. (703) 487-5406

Public Affairs Office, MS-5341 MIB, 1849 C St., NW., Washington, DC 20240, Telephone No. (202) 513-0326, Fax No. (202) 219-3856

Reading Room, Room 5341, MIB, 1849 C St., NW., Washington, DC 20240, Telephone No. (703) 487-5443, Fax No. (703) 487-5400

Office of the Solicitor (SOL) Headquarters

FOIA Officer, MS-6556, MIB, 1849 C St., NW., Washington, DC 20240, Telephone No. (202) 208-6505, Fax No. (202) 208-5206

Public Affairs Office, Office of Communications, MS-6013, MIB, 1849 C St., NW., Washington, DC 20240, Telephone No. (202) 208-6416, Fax No. (202) 208-3231

Reading Room, Room 2328, MIB, 1849 C St., NW., Washington DC 20240, Telephone No. (202) 208-6505, Fax No. (202) 208-5206

Fish & Wildlife Service (FWS) Headquarters

FOIA Officer, Arlington Square, Room 222, 4401 North Fairfax Dr., Arlington, VA 22203, Telephone No. (703) 358-2504, Fax No. (703) 219-2428

Public Affairs Office, MS-3447, MIB, 1849 C St., NW., Washington, DC 20240, Telephone No. (202) 208-5634, Fax No. (202) 208-5850

Reading Room, Arlington Square, Room 224, 4401 North Fairfax Dr., Arlington, VA 22203, Telephone No. (703) 358-1730, Fax No. (703) 358-2269

National Park Service (NPS) Headquarters

FOIA Officer, Office of the CIO, Org Code 2550, 1849 C St., NW., Washington, DC 20240, Telephone No. (202) 354-1925, Fax No. (202) 371-6741

Public Affairs Office, P.O. Box 37127, Washington, DC 20013-7127, Telephone No. (202) 208-6843, Fax No. (202) 219-0910

Reading Room, Administrative Program Center, 1201 Eye St., NW., 12th Floor, Washington, DC 20005, Telephone No. (202) 354-1925, Fax No. (202) 371-6741

Bureau of Land Management (BLM) Headquarters

FOIA Officer, MS-WO-560, 1620 L St., NW., Room 725, Washington, DC 20240, Telephone No. (202) 452-5013, Fax No. (202) 452-5002

Public Affairs Office, MS-WO-610, 1620 L St., NW., Room 406, Washington, DC 20240, Telephone No. (202) 452-5125, Fax No. (202) 452-5124

Reading Room, 1620 L St., NW.—Room 750, Washington, DC 20240, Telephone No. (202) 452-5193, Fax No. (202) 452-0395

Minerals Management Service (MMS) Headquarters

FOIA Officer, 381 Elden St. MS-2200, Herndon, VA 20170-4817, Telephone No. (703) 787-1689, Fax No. (703) 787-1207

Public Affairs Office, Office of Communications, 1849 C St., NW., MS-4230, Washington, DC 20240, Telephone No. (202) 208-3985, Fax No. (202) 208-3968

Reading Room, Public Information Office, 1201 Elmwood Park Blvd., New Orleans, LA 70123-2394, Telephone No. (800) 200-GULF, Fax No. (504) 736-2620

Office of Surface Mining (OSM) Headquarters

FOIA Officer, MS-130, SIB, 1951 Constitution Ave., NW., Washington, DC 20240, Telephone No. (202) 208-2961, Fax No. (202) 219-3092

Office of Communications, MS-262, SIB, 1951 Constitution Ave., NW., Washington, DC 20240, Telephone No. (202) 208-2565, Fax No. (202) 501-0549

Reading Room, Contact: OSM FOIA Officer, Room 263, SIB, 1951 Constitution Ave., NW., Washington, DC 20240, Telephone No. (202) 208-2961, Fax No. (202) 501-4734

U.S. Geological Survey (USGS) Headquarters

FOIA Officer, 12201 Sunrise Valley, Dr., MS-807, Reston, VA 20192, Telephone No. (703) 648-7158, Fax No. (703) 648-6853

Office of Communications, 12201 Sunrise Valley Dr., MS-119, Reston, VA 20192, Telephone No. (703) 648-4460, Fax No. (703) 648-4466

Reading Room, USGS Library, 12201 Sunrise Valley Dr., Reston, VA 20192, Telephone No. (703) 648-4302, Fax No. (703) 648-6373

Bureau of Reclamation (BOR) Headquarters

FOIA Officer, P.O. Box 25007, 84-21300, Denver, CO 80225-0007, Telephone No. (303) 445-2048, Fax No. (303) 445-6575

Public Affairs Office, P.O. Box 25007, 82-40000, Denver, CO 80225-0007, Telephone No. (303) 236-7000, Fax No. (303) 236-9235

Reading Room, Reclamation Library, P.O. Box 25007, 84-27960, Denver, CO 80225-0007, Telephone No. (303) 445-2072, Fax No. (303) 445-6303

Bureau of Indian Affairs (BIA) Headquarters

FOIA Officer, MS-3071, MIB, 1849 C St., NW., Washington, DC 20240, Telephone No. (202) 208-4542, Fax No. (202) 208-6597

Public Affairs Office, MS-3658, MIB, 1849 C St., NW., Washington, DC 20240, Telephone No. (202) 208-3710, Fax No. (202) 501-1516

Reading Room, Room 3071, MIB, 1849 C St., NW., Washington, DC 20240, Telephone No. (202) 513-0883, Fax No. (202) 208-6597

Note: For more information on FOIA, including the most current listing of FOIA Contacts and reading rooms, visit DOI's FOIA Web site at http://www.doi.gov/foia/. Henceforth, Appendix A to 43 CFR Part 2 will be maintained and updated on DOI's FOIA Web site. If you do not have access to the Web, please contact the appropriate bureau FOIA Officer or the Departmental FOIA Office.

[FR Doc. E7-21012 Filed 10-24-07; 8:45 am]

BILLING CODE 4310-RK-P